DEPARTMENT OF HEALTH AND HUMAN SERVICES

Centers for Disease Control and Prevention

[30 Day-11-0445]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

School Health Policies and Practices Study 2012 (formerly titled School Health Policies and Programs Study, OMB No. 0920-0445, exp. 11/30/2008)—Reinstatement with Changes—National Center for Chronic Disease Prevention and Health Promotion (NCCDPHP), Centers for Disease Control and Prevention (CDC).

Background and Brief Description

CDC has previously examined the role that schools play in addressing the health risk behaviors through the School Health Policies and Programs Study (SHPPS, OMB No. 0920-0445), a series of data collections conducted at the state, district, school, and classroom levels in 1994 (OMB. No. 0920-0340, exp. 1/31/1995), in 2000 (OMB No. 0920-0445, exp. 10/31/2002), and in 2006 (OMB No. 0920-0445, exp. 11/30/2008).

Clearance is being requested for one year for CDC to conduct SHPPS 2012. The purpose of the study is to collect updated information to assess the characteristics of eight components of school health programs at the elementary, middle, and high school levels. The components are: Health education, physical education, health services, mental health and social services, nutrition services, healthy and safe school environment, faculty and staff health promotion, and family and community involvement. Twenty-two questionnaires will be used: Six at the state level, seven at the district level, seven at the school level, and two at the classroom level. Data collection at the state and district levels will be self-administered via the Internet. Data collection at the school and classroom levels will be conducted via computer-assisted personal interviews. SHPPS 2012 also will include vending machine observations in the schools.

SHPPS 2012 data will have significant implications for policy and program development for school health programs nationwide. The data will also be used to provide the only national source of data to measure 14 Healthy People 2020 national health objectives, and will provide the only nationally representative dataset of snack and beverage offerings available to students through school vending machines.

There are no costs to respondents other than their time. The total estimated burden hours are 13,262.

Estimated Annualized Burden Hours
Type of respondent | Form name | Number of respondents | Number responses per respondent | Average burden per response (in hours)
State Officials | State Health Education | 51 | 1 | 30/60
| State Physical Education and Activity | 51 | 1 | 30/60
| State Health Services | 51 | 1 | 30/60
| State Nutrition Services | 51 | 1 | 30/60
| State Healthy and Safe School Environment | 51 | 1 | 30/60
| State Mental Health and Social Services | 51 | 1 | 30/60
| State Recruitment Script | 51 | 1 | 1
District Officials | District Health Education | 685 | 1 | 30/60
| District Physical Education and Activity | 685 | 1 | 40/60
| District Health Services | 685 | 1 | 40/60
| District Nutrition Services | 685 | 1 | 30/60
| District Healthy and Safe School Environment | 685 | 1 | 1
| District Mental Health and Social Services | 685 | 1 | 30/60
| District Faculty and Staff Health Promotion | 685 | 1 | 20/60
| District Recruitment Script | 1006 | 1 | 1
School Officials | School Recruitment Script | 1409 | 1 | 1
| School Health Education | 1043 | 1 | 20/60
| School Physical Education and Activity | 1043 | 1 | 40/60
| School Health Services | 1043 | 1 | 50/60
| School Nutrition Services | 1043 | 1 | 40/60
| Healthy and Safe School Environment | 1043 | 1 | 75/60
| School Mental Health and Social Services | 1043 | 1 | 30/60
| School Faculty and Staff Health Promotion | 1043 | 1 | 20/60
Classroom Teachers | Classroom Health Education | 2002 | 1 | 50/60
| Classroom Physical Education and Activity | 2002 | 1 | 40/60

Dated: April 25, 2011.
Carol Walker,
Acting Reports Clearance Officer, Centers for Disease Control and Prevention.

[FR Doc. 2011-10391 Filed 4-28-11; 8:45 am]

BILLING CODE 4163-18-P